CONSUMER PRODUCT SAFETY COMMISSION

In re Amazon.Com, Inc.

AGENCY: Consumer Product Safety Commission.

ACTION: Commission meeting: Oral Argument—open to the public; remainder of the meeting is closed to the public.

SUMMARY: The Consumer Product Safety Commission (“CPSC” or “Commission”) will meet on Thursday, December 14, 2023, in Hearing Room 420 of the Headquarters Building of the CPSC for an Oral Argument in In the Matter of Amazon.com, Inc., CPSC Docket No. 21-2. The public is invited to attend and observe the open portion of the meeting, which is scheduled to begin at 10 a.m. The remainder of the meeting will be closed to the public.

DATES: Oral argument is scheduled for December 14, 2023 at 10 a.m.

ADDRESSES: Hearing Room 420, Bethesda Towers, 4330 East West Highway, Bethesda, MD 20814. A live webcast of the meeting can be viewed at the following link: https://cpsc.webex.com/weblink/register/rd3a8cbedeac231e01896d8d56252d109.

FOR FURTHER INFORMATION CONTACT: Alberta Mills, Office of the Secretary, U.S. Consumer Product Safety Commission, 4330 East West Highway, Bethesda, MD 20814, (301) 504-7479.

SUPPLEMENTARY INFORMATION:

Open Meeting

(1) Oral Argument in In the Matter of Amazon.com, Inc., Docket No. 21-2.

Closed Meeting

(2) Executive Session to follow Oral Argument in In the Matter of Amazon.com, Inc., Docket No. 21-2.

Record of Commission's Vote

On December 1, 2023, Chair Hoehn-Saric and Commissioners Peter A. Feldman, Richard Trumka Jr., and Mary T. Boyle, voted unanimously to close the Executive Session.

Commission's Explanation of Closing

The Commission has determined that the Executive Session may be closed under 16 CFR 1013.4(b)(10) because the meeting will “[s]pecifically concern . . . disposition by the Agency of a particular case of formal agency adjudication pursuant to the procedures in 5 U.S.C. 554,” and that the public interest does not require the matter to be open.

General Counsel Certification

The General Counsel has certified that the Executive Session may properly be closed, citing the following relevant provision: 16 CFR 1013.4(b)(10).

Expected Attendees

Expected to attend the closed meeting are the Commissioners and their immediate staff, and such other Commission staff as may be appropriate.

Dated: December 4, 2023.
Alberta E. Mills,
Secretary.

[FR Doc. 2023-26874 Filed 12-6-23; 8:45 am]

BILLING CODE 6355-01-P